DEPARTMENT OF DEFENSE

Office of the Secretary

Submission for OMB Review; Comment Request

ACTION: Notice.

The Department of Defense has submitted to OMB for clearance, the following proposal for collection of information under the provisions of the Paperwork Reduction Act (44 U.S.C. Chapter 35).

Title, Associated Form, and OMB Number: Vessel Operation Report; ENG Forms 3925, 3925B, 3925P, 3925C; OMB Number 0710-0006.

Type of Request: Revision.

Number of Respondents: 1,321.

Responses Per Respondent: 173 (average).

Annual Responses: 228,752.

Average Burden Per Response: 5 minutes.

Annual Burden Hours: 44,479.

Needs and Uses: The information collected is the basic data from which the Corps of Engineers compiles and publishes waterborne commerce statistics. The data is collected from vessel operating companies. The data is used to report to Congress and to perform cost benefit studies for new projects, rehabilitation projects, and operations and maintenance of existing projects. The Waterborne Commerce Statistics Center, Army COE, is the sole authorized collector of data on domestic waterborne commerce. The WCSC provides the information to the Maritime Administration (MARAD), Department of Energy, Tennessee Valley Authority, Interstate Commerce Commission, the Coast Guard, State taxing agencies, U.S. Customs Service, Department of Treasury, and the Internal Revenue Service.

Affected Public: Business or Other For-Profit.

Frequency: Monthly.

Respondent's Obligation: Mandatory.

OMB Desk Officer: Mr. Jim Laity.

Written comments and recommendations on the proposed information collection should be sent to Mr. Laity at the Office of Management and Budget, Desk Officer for U.S. Army COE, Room 10202, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: June 15, 2000.
Patricia L. Toppings,
Alternate OSD Federal Register Liaison Officer, Department of Defense.

[FR Doc. 00-17408 Filed 7-10-00; 8:45 am]

BILLING CODE 5001-10-M